DEPARTMENT OF HOMELAND SECURITY

Coast Guard

33 CFR Part 117

[Docket No. USCG-2014-0960]

Drawbridge Operation Regulation; Gulf Intracoastal Waterway, Belle Chasse, LA

AGENCY: Coast Guard, DHS.

ACTION: Notice of deviation from drawbridge regulation.

SUMMARY: The Coast Guard has issued a temporary deviation from the operating schedule that governs the Louisiana State Route 23 (SR 23) vertical lift span bridge, also known as the Judge Perez Bridge, across the Gulf Intracoastal Waterway (Algiers Alternate Route), mile 3.8, at Belle Chasse, Plaquemines Parish, Louisiana. This deviation is necessary to provide for the safe movement of vehicular traffic during major plant reconstruction on one side of the waterway and the resulting change in work schedule and increase in workforce transiting the bridge. This deviation allows the bridge to remain temporarily closed to navigation for an additional one hour in the evening during weekdays for two months.

DATES: This deviation is effective from 5:30 p.m. on Friday, December 26, 2014 through 6:30 p.m. on Friday, February 20, 2015.

ADDRESSES: The docket for this deviation, [USCG-2014-0960] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: A member of the Louisiana State Legislature requested a temporary deviation from the operating schedule on the Louisiana State Route 23 (SR 23) vertical lift span bridge, also known as the Judge Perez Bridge, across the Gulf Intracoastal Waterway (Algiers Alternate Route), mile 3.8, at Belle Chasse, Plaquemines Parish, Louisiana. The deviation requested allows the bridge to remain closed to navigation for an additional one hour in the evening, Monday through Friday, for two months. This same deviation was effective from early March 2014 through April 2014, and no issues resulted.

The Louisiana Legislature requested this deviation due to a change in the work schedule and increased work force related to a major plant reconstruction at the Conoco/Phillips Refinery in Alliance. During this change, a temporary deviation will assist in the safe movement of vehicular traffic across the bridge and will also help to minimize the effects of the additional traffic on local residents.

Presently, in accordance with 33 CFR 117.451(b), the draw shall open on signal; except that, from 6 a.m. to 8:30 a.m. and from 3:30 p.m. to 5:30 p.m. Monday through Friday, except Federal holidays, the draw need not open for the passage of vessels.

This temporary deviation allows the vertical lift bridge to remain closed to navigation for one additional hour in the afternoon. This additional hour extends the afternoon curfew hours to 6:30 p.m. Monday through Friday beginning December 26, 2014 through February 20, 2015. In case of an emergency, the bridge will be able to open for the passage of vessels.

The State Route 23 vertical lift span drawbridge across the Gulf Intracoastal Waterway (Algiers Alternate Route), mile 3.8, at Belle Chasse, Louisiana has a vertical clearance of 40 feet above mean high water in the closed-to-navigation position and 100 feet above mean high water in the open-to-navigation position. Navigation on the waterway consists primarily of tugs with tows, commercial fishing vessels, and occasional recreational craft. Mariners may use the Gulf Intracoastal Waterway (Harvey Canal) to avoid unnecessary delays. The Coast Guard has coordinated this closure with the Gulf Intracoastal Canal Association (GICA). The GICA representative indicated that the vessel operators will be able to schedule transits through the bridge to avoid delays and significant impacts on operations. Due to prior experience, as well as coordination with waterway users, it has been determined that this closure will not have a significant effect on these vessels.

In accordance with 33 CFR 117.35, the draw bridge must return to its regular operating schedule immediately at the end of the effective period of this temporary deviation. This deviation from the operating regulations is authorized under 33 CFR 117.35.

Dated: October 27, 2014.
David M. Frank,
Bridge Administrator, Eighth Coast Guard District.

[FR Doc. 2014-26531 Filed 11-7-14; 8:45 am]

BILLING CODE 9110-04-P